DEPARTMENT OF DEFENSE

Department of the Navy

Notice of Cancellation of Open Meeting of the Chief of Naval Operations (CNO) Executive Panel

AGENCY: Department of the Navy, DoD.

ACTION: Notice of cancellation.

SUMMARY: The Department of the Navy published a document in the Federal Register (75 FR 7453) of February 19, 2010, announcing The CNO Executive Panel was scheduled to meet on March 11, 2010, to deliberate on the findings and proposed recommendations of the Subcommittee on Improved Concept Generation Development. The meeting has been canceled.

SUPPLEMENTARY INFORMATION: The canceled meeting was scheduled to be held on March 11, 2010, at 9 a.m. in the Boardroom, CNA, 4825 Mark Center Drive, Alexandria, VA 22311-1846. The matters to be discussed included: Navy's concept generation and concept development processes and procedures.

FOR FURTHER INFORMATION CONTACT: Ms. Bree A. Hartlage, CNO Executive Panel, 4825 Mark Center Drive, Alexandria, VA 22311-1846, 703-681-4907.

Dated: February 23, 2010.
A.M. Vallandingam,
Lieutenant Commander, Office of the Judge Advocate General, U.S. Navy, Federal Register Liaison Officer.

[FR Doc. 2010-4190 Filed 2-26-10; 8:45 am]

BILLING CODE 3810-FF-P